DEPARTMENT OF ENERGY

Federal Energy Regulatory Commission

Combined Notice of Filings

Take notice that the Commission has received the following Natural Gas Pipeline Rate and Refund Report filings:

Filings Instituting Proceedings

Docket Numbers: PR14-29-001.

Applicants: EnLink LIG, LLC.

Description: Tariff filing per 284.123(b), (e) + (g): Amendment to Revised SOC filing to be effective 5/14/2014; TOFC 1270.

Filed Date: 5/14/14.

Accession Number: 20140514-5070.

Comments Due: 5 p.m. ET 6/4/14.

284.123(g) Protests Due: 5 p.m. ET 6/4/14.

Docket Numbers: PR14-36-000.

Applicants: Acacia Natural Gas, L.L.C.

Description: Tariff filing per 284.123(e) + (g): Revised Statement of Operating Conditions to be effective 6/1/2014; TOFC: 1280.

Filed Date: 5/15/14.

Accession Number: 20140515-5176.

Comments Due: 5 p.m. ET 6/5/14.

284.123(g) Protests Due: 5 p.m. ET 7/14/14.

Docket Numbers: RP14-940-000.

Applicants: Venice Gathering System, L.L.C.

Description: Compliance Filing.

Filed Date: 5/19/14.

Accession Number: 20140519-5027.

Comments Due: 5 p.m. ET 6/2/14.

Docket Numbers: RP14-941-000.

Applicants: Chandeleur Pipe Line, LLC.

Description: Chandeleur Show Cause Section 8.7.7 to be effective 6/19/2014.

Filed Date: 5/19/14.

Accession Number: 20140519-5028.

Comments Due: 5 p.m. ET 6/2/14.

Docket Numbers: RP14-942-000.

Applicants: Sabine Pipe Line LLC.

Description: Sabine Show Cause Section 7.10 to be effective 6/19/2014.

Filed Date: 5/19/14.

Accession Number: 20140519-5029.

Comments Due: 5 p.m. ET 6/2/14.

Docket Numbers: RP14-943-000.

Applicants: Dauphin Island Gathering Partners.

Description: Order to Show Cause to be effective 6/18/2014.

Filed Date: 5/19/14.

Accession Number: 20140519-5034.

Comments Due: 5 p.m. ET 6/2/14.

Docket Numbers: RP14-944-000.

Applicants: Cimarron River Pipeline, LLC.

Description: Order to Show Cause to be effective 6/18/2014.

Filed Date: 5/19/14.

Accession Number: 20140519-5035.

Comments Due: 5 p.m. ET 6/2/14.

Docket Numbers: RP14-945-000.

Applicants: WBI Energy Transmission, Inc.

Description: Order to Show Cause Compliance Filing to be effective 6/19/2014.

Filed Date: 5/19/14.

Accession Number: 20140519-5036.

Comments Due: 5 p.m. ET 6/2/14.

Docket Numbers: RP14-946-000.

Applicants: Southern Natural Gas Company, L.L.C.

Description: Show Cause Order—Compliance Filing.

Filed Date: 5/19/14.

Accession Number: 20140519-5044.

Comments Due: 5 p.m. ET 6/2/14.

Docket Numbers: RP14-947-000.

Applicants: Trans-Union Interstate Pipeline, L.P.

Description: Compliance Filing to Modify Tariff to be effective 6/18/2014.

Filed Date: 5/19/14.

Accession Number: 20140519-5045.

Comments Due: 5 p.m. ET 6/2/14.

Docket Numbers: RP14-948-000.

Applicants: Southern LNG Company, L.L.C.

Description: Show Cause Order—Compliance Filing.

Filed Date: 5/19/14.

Accession Number: 20140519-5046.

Comments Due: 5 p.m. ET 6/2/14.

Docket Numbers: RP14-949-000.

Applicants: Elba Express Company, L.L.C.

Description: Show Cause Order—Compliance Filing.

Filed Date: 5/19/14.

Accession Number: 20140519-5047.

Comments Due: 5 p.m. ET 6/2/14.

Docket Numbers: RP14-950-000.

Applicants: Millennium Pipeline Company, LLC.

Description: System Map Update 2014 to be effective 6/23/2014.

Filed Date: 5/19/14.

Accession Number: 20140519-5048.

Comments Due: 5 p.m. ET 6/2/14.

Docket Numbers: RP14-951-000.

Applicants: Discovery Gas Transmission LLC.

Description: Compliance Filing to Show Cause Order dated March 19, 2014 to be effective 7/1/2014.

Filed Date: 5/19/14.

Accession Number: 20140519-5056.

Comments Due: 5 p.m. ET 6/2/14.

Docket Numbers: RP14-952-000.

Applicants: Destin Pipeline Company, L.L.C.

Description: Capacity Release Compliance Filing.

Filed Date: 5/19/14.

Accession Number: 20140519-5061.

Comments Due: 5 p.m. ET 6/2/14.

Docket Numbers: RP14-953-000.

Applicants: MarkWest New Mexico, L.L.C.

Description: MarkWest New Mexico Response to Show Cause Order in RP14-442 to be effective 6/19/2014.

Filed Date: 5/19/14.

Accession Number: 20140519-5063.

Comments Due: 5 p.m. ET 6/2/14.

Docket Numbers: RP14-954-000.

Applicants: MarkWest Pioneer, L.L.C.

Description: MarkWest Pioneer Response to Show Cause Order in RP14-442 to be effective 6/19/2014.

Filed Date: 5/19/14.

Accession Number: 20140519-5064.

Comments Due: 5 p.m. ET 6/2/14.

Docket Numbers: RP14-955-000.

Applicants: NGO Transmission, Inc.

Description: NGO Transmission Response to Show Cause Order in RP14-442 to be effective 6/19/2014.

Filed Date: 5/19/14.

Accession Number: 20140519-5067.

Comments Due: 5 p.m. ET 6/2/14.

Docket Numbers: RP14-956-000.

Applicants: Ryckman Creek Resources, LLC.

Description: Order to Show Cause Compliance Filing to be effective 6/18/2014.

Filed Date: 5/19/14.

Accession Number: 20140519-5068.

Comments Due: 5 p.m. ET 6/2/14.

Docket Numbers: RP14-957-000.

Applicants: KO Transmission Company.

Description: Posting of Offers to Purchase Released Capacity Compliance Filing to be effective 5/19/2014.

Filed Date: 5/19/14.

Accession Number: 20140519-5069.

Comments Due: 5 p.m. ET 6/2/14.

Docket Numbers: RP14-958-000.

Applicants: Enable Mississippi River Transmission, L.

Description: Compliance Filing for Offers to Purchase Release Capacity.

Filed Date: 5/19/14.

Accession Number: 20140519-5076.

Comments Due: 5 p.m. ET 6/2/14.

Docket Numbers: RP14-959-000.

Applicants: Black Marlin Pipeline Company.

Description: Compliance Filing to March 20, 2014 Order to Show Cause to be effective 7/1/2014.

Filed Date: 5/19/14.

Accession Number: 20140519-5077.

Comments Due: 5 p.m. ET 6/2/14.

Docket Numbers: RP14-960-000.

Applicants: Enable Gas Transmission, LLC.

Description: Compliance Filing to Show Cause Order in RP14-442.

Filed Date: 5/19/14.

Accession Number: 20140519-5078.

Comments Due: 5 p.m. ET 6/2/14.

Docket Numbers: RP14-961-000.

Applicants: USG Pipeline Company, LLC.

Description: Show Cause Order Compliance to be effective 6/18/2014.

Filed Date: 5/19/14.

Accession Number: 20140519-5088.

Comments Due: 5 p.m. ET 6/2/14.

Docket Numbers: RP14-962-000.

Applicants: Pine Needle LNG Company, LLC.

Description: Compliance Filing—GT&C Section 20—Posting of Offers to Purchase Released Capac to be effective 7/1/2014.

Filed Date: 5/19/14.

Accession Number: 20140519-5093.

Comments Due: 5 p.m. ET 6/2/14.

Docket Numbers: RP14-963-000.

Applicants: Transcontinental Gas Pipe Line Company.

Description: Compliance Filing—GT&C Section 42—Posting of Offers to Purchase Released Capac to be effective 7/1/2014.

Filed Date: 5/19/14.

Accession Number: 20140519-5094.

Comments Due: 5 p.m. ET 6/2/14.

Docket Numbers: RP14-964-000.

Applicants: Gulf Shore Energy Partners, LP.

Description: Gulf Shore Energy Show Cause Compliance filing.

Filed Date: 5/19/14.

Accession Number: 20140519-5095.

Comments Due: 5 p.m. ET 6/2/14.

Docket Numbers: RP14-965-000.

Applicants: Kinetica Energy Express, LLC.

Description: Kinetica Show Cause Compliance Filing.

Filed Date: 5/19/14.

Accession Number: 20140519-5096.

Comments Due: 5 p.m. ET 6/2/14.

Docket Numbers: RP14-966-000.

Applicants: Panther Interstate Pipeline Energy, LLC.

Description: Panther Response to Show Cause Order in RP14-442.

Filed Date: 5/19/14.

Accession Number: 20140519-5097.

Comments Due: 5 p.m. ET 6/2/14.

Docket Numbers: RP14-967-000.

Applicants: American Midstream (AlaTenn), LLC.

Description: AlaTenn Response to Show Cause Order in RP14-442.

Filed Date: 5/19/14.

Accession Number: 20140519-5108.

Comments Due: 5 p.m. ET 6/2/14.

Docket Numbers: RP14-968-000.

Applicants: Tennessee Gas Pipeline Company, L.L.C.

Description: Show Cause Order Compliance Filing.

Filed Date: 5/19/14.

Accession Number: 20140519-5109.

Comments Due: 5 p.m. ET 6/2/14.

Docket Numbers: RP14-969-000.

Applicants: Golden Pass Pipeline LLC.

Description: Compliance Filing per Docket No. RP14-442-000 Offer to Purch Capacity to be effective 7/1/2014.

Filed Date: 5/19/14.

Accession Number: 20140519-5110.

Comments Due: 5 p.m. ET 6/2/14.

Docket Numbers: RP14-970-000.

Applicants: High Point Gas Transmission, LLC.

Description: High Point Response to Show Cause Order in RP14-442.

Filed Date: 5/19/14.

Accession Number: 20140519-5111.

Comments Due: 5 p.m. ET 6/2/14.

Docket Numbers: RP14-971-000.

Applicants: Gulf States Transmission LLC.

Description: Compliance with FERC Docket No. RP14-442.

Filed Date: 5/19/14.

Accession Number: 20140519-5112.

Comments Due: 5 p.m. ET 6/2/14.

Docket Numbers: RP14-972-000

Applicants: Kern River Gas Transmission Company.

Description: 2014 Order to Show Cause Compliance.

Filed Date: 5/19/14.

Accession Number: 20140519-5114.

Comments Due: 5 p.m. ET 6/2/14.

Docket Numbers: RP14-973-000.

Applicants: American Midstream (Midla), LLC.

Description: Midla Response to Show Cause Order in RP14-442 to be effective 6/19/2014.

Filed Date: 5/19/14.

Accession Number: 20140519-5132.

Comments Due: 5 p.m. ET 6/2/14.

Docket Numbers: RP14-974-000.

Applicants: KPC Pipeline, LLC.

Description: KPC Response to Show Cause Order in RP14-442 to be effective 6/19/2014.

Filed Date: 5/19/14.

Accession Number: 20140519-5140.

Comments Due: 5 p.m. ET 6/2/14.

Docket Numbers: RP14-975-000.

Applicants: Northern Natural Gas Company.

Description: 20140519 Compliance Filing.

Filed Date: 5/19/14.

Accession Number: 20140519-5153.

Comments Due: 5 p.m. ET 6/2/14.

Docket Numbers: RP14-976-000.

Applicants: MoGas Pipeline LLC.

Description: Docket No. RP14-442-000 Compliance Filing to be effective 7/1/2014.

Filed Date: 5/19/14.

Accession Number: 20140519-5161.

Comments Due: 5 p.m. ET 6/2/14.

Docket Numbers: RP14-977-000.

Applicants: East Cheyenne Gas Storage, LLC.

Description: ECGS Filing in Response to Show Cause Order.

Filed Date: 5/19/14.

Accession Number: 20140519-5188.

Comments Due: 5 p.m. ET 6/2/14.

Docket Numbers: RP14-978-000.

Applicants: Cheniere Creole Trail Pipeline, L.P.

Description: Docket No. RP14-442-000 Compliance Filing to be effective 7/1/2014.

Filed Date: 5/19/14.

Accession Number: 20140519-5191.

Comments Due: 5 p.m. ET 6/2/14.

Docket Numbers: RP14-979-000.

Applicants: Dominion Transmission, Inc.

Description: DTI—Show Cause Order (RP14-442) Compliance Filing to be effective 7/1/2014.

Filed Date: 5/19/14.

Accession Number: 20140519-5197.

Comments Due: 5 p.m. ET 6/2/14.

Docket Numbers: RP14-980-000.

Applicants: High Island Offshore System, L.L.C.

Description: Capacity Release Update—Purchases of Released Capacity to be effective 6/19/2014.

Filed Date: 5/19/14.

Accession Number: 20140519-5198.

Comments Due: 5 p.m. ET 6/2/14.

Docket Numbers: RP14-981-000.

Applicants: Dominion Cove Point LNG, LP.

Description: DCP—Show Cause Order (RP14-442) Compliance Filing to be effective 7/1/2014.

Filed Date: 5/19/14.

Accession Number: 20140519-5199.

Comments Due: 5 p.m. ET 6/2/14.

Docket Numbers: RP14-982-000.

Applicants: National Fuel Gas Supply Corporation.

Description: National Fuel Gas Supply Corporation submits tariff filing per 154.203: Order to Show Cause CF (Supply) to be effective 6/18/2014.

Filed Date: 5/19/14.

Accession Number: 20140519-5212.

Comments Due: 5 p.m. ET 6/2/14.

Docket Numbers: RP14-983-000.

Applicants: Empire Pipeline, Inc.

Description: Empire Pipeline, Inc. submits tariff filing per 154.203: Order to Show Cause CF (Empire) to be effective 6/18/2014.

Filed Date: 5/19/14.

Accession Number: 20140519-5214.

Comments Due: 5 p.m. ET 6/2/14.

Docket Numbers: RP14-984-000.

Applicants: El Paso Natural Gas Company, L.L.C.

Description: El Paso Natural Gas Company, L.L.C. submits tariff filing per 154.203: Show Cause Order Compliance Filing.

Filed Date: 5/19/14.

Accession Number: 20140519-5215

Comments Due: 5 p.m. ET 6/2/14.

Docket Numbers: RP14-985-000.

Applicants: Mojave Pipeline Company, L.L.C.

Description: Mojave Pipeline Company, L.L.C. submits tariff filing per 154.203: Show Cause Order Compliance Filing to be effective 6/19/2014.

Filed Date: 5/19/14.

Accession Number: 20140519-5216.

Comments Due: 5 p.m. ET 6/2/14.

Docket Numbers: RP14-986-000.

Applicants: TransColorado Gas Transmission Company L.

Description: Show Cause Order Compliance Filing.

Filed Date: 5/19/14.

Accession Number: 20140519-5217.

Comments Due: 5 p.m. ET 6/2/14.

Docket Numbers: RP14-987-000.

Applicants: Iroquois Gas Transmission System, L.P.

Description: 05/19/14—Show Cause Order RP14-442.

Filed Date: 5/19/14.

Accession Number: 20140519-5222.

Comments Due: 5 p.m. ET 6/2/14.

Docket Numbers: RP14-988-000.

Applicants: Paiute Pipeline Company.

Description: RP14-442 Compliance Filing.

Filed Date: 5/19/14.

Accession Number: 20140519-5238.

Comments Due: 5 p.m. ET 6/2/14.

Any person desiring to intervene or protest in any of the above proceedings must file in accordance with Rules 211 and 214 of the Commission's Regulations (18 CFR § 385.211 and § 385.214) on or before 5:00 p.m. Eastern time on the specified date(s). Protests may be considered, but intervention is necessary to become a party to the proceeding.

Filings in Existing Proceedings

Docket Numbers: RP13-673-001.

Applicants: B-R Pipeline Company.

Description: Show Cause Order Compliance to be effective 6/18/2014.

Filed Date: 5/19/14.

Accession Number: 20140519-5079.

Comments Due: 5 p.m. ET 6/2/14.

Docket Numbers: RP13-404-002.

Applicants: Transwestern Pipeline Company, LLC.

Description: Settlement in Compliance with RP13-404 Settlement.

Filed Date: 5/16/14.

Accession Number: 20140516-5143.

Comments Due: 5 p.m. ET 5/28/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 20, 2014.
Nathaniel J. Davis, Sr.,
Deputy Secretary.

[FR Doc. 2014-12713 Filed 6-2-14; 8:45 am]

BILLING CODE 6717-01-P